NATIONAL LABOR RELATIONS BOARD

Notice of Appointments of Individuals To Serve as Members of Performance Review Boards

AGENCY: National Labor Relations Board.

ACTION: Notice; appointment to serve as members of performance review boards.

SUMMARY: The National Labor Relations Board is issuing this notice that the individuals whose names and position titles appear below have been appointed to serve as members of performance review boards in the National Labor Relations Board for the rating year beginning October 1, 2020 and ending September 30, 2021.

FOR FURTHER INFORMATION CONTACT: Roxanne L. Rothschild, Executive Secretary, National Labor Relations Board, 1015 Half Street SE, Washington, DC 20570, (202) 273-1940 (this is not a toll-free number), 1-866-315-6572 (TTY/TDD).

SUPPLEMENTARY INFORMATION:

Name and Title

Andrew Krafts—Executive Assistant to the Chairman (Chief of Staff), the Board

Peter Sung Ohr—Deputy General Counsel, Office of the General Counsel

Lara Zick—Deputy Chief Counsel to Member Prouty

Grant Kraus—Deputy Chief Counsel to Member Ring

Mark Arbesfeld—Director, Office of Appeals

Terence Schoone-Jongen—(Alternate)—Director of the Office of Representation Appeals

Nancy Platt—(Alternate)—Associate General Counsel, Division of Legal Counsel

Authority: 5 U.S.C. 4314(c)(4).

Dated: October 15, 2021.
By Direction of the Board.
Roxanne L. Rothschild,
Executive Secretary.

[FR Doc. 2021-22823 Filed 10-19-21; 8:45 am]

BILLING CODE 7545-01-P